DEPARTMENT OF THE INTERIOR

National Park Service

Notice of Intent to Repatriate Cultural Items in the Possession of the U.S. Department of Agriculture, U.S. Forest Service, Chugach National Forest, Anchorage, AK

AGENCY: National Park Service, Interior.

ACTION: Notice.

Notice is hereby given in accordance with provisions of the Native American Graves Protection and Repatriation Act, 43 CFR 10.10 (a)(3), of the intent to repatriate cultural items in the possession of the U.S. Department of Agriculture, U.S. Forest Service, Chugach National Forest, Anchorage, AK, that meet the definition of “unassociated funerary objects” under Section 2 of the Act.

This notice is published as part of the National Park Service’s administrative responsibilities under NAGPRA, 43, CFR 10.2 (c). The determinations within this notice are the sole responsibility of the museum, institution, or Federal agency that has control of the cultural items. The National Park Service is not responsible for the determinations within this notice.

The 16 objects are 1 bone harpoon point, 1 bone-toggling harpoon point, 1 stone end blade, 1 whetstone, 2 sea mammal bones, 9 glass beads, and 1 small piece of red ochre.

In 1981, U.S. Department of the Interior, Bureau of Indian Affairs and U.S. Department of the Interior, National Park Service, Cooperative Park Studies Unit archeologists conducted a survey of the Esther Bay site, a 14(h)(1) selection on the southern side of Esther Island, Prince William Sound, AK. Cultural items, along with human remains, were collected from two burial sites. The human remains from these sites were were reinterred at the original burial location in the spring of 1990. The cultural items are one bone harpoon point, one bone-toggling harpoon point, one stone end blade, one whetstone, and two sea mammal bones. Based on archeological evidence, the Esther Bay site is identified as a prehistoric Chugach Eskimo burial cave. Chugach National Forest is not in possession or control of the human remains from these burial sites.

In 1933, Frederica de Laguna investigated the Campbell Bay site, located on the northwestern shore of Glacier Island, Prince William Sound, AK, and collected two sets of human remains from burials there. The human remains were curated at the National Museum of Denmark, Copenhagen, and were previously repatriated to the Chugach Alaska Corporation.

In 1981, U.S. Department of the Interior, Bureau of Indian Affairs and U.S. Department of the Interior, National Park Service, Cooperative Park Studies Unit archaeologists conducted a survey of the same site, a 14(h)(1) selection, and located the area from which de Laguna had removed the human remains. No human remains were located during the 1981 survey, but 10 cultural items were recovered from the burial site: 7 blue and 2 white glass beads, along with 1 small piece of red ochre. Based on archeological evidence, the Campbell Bay site is identified as a postcontact, late 18th-century Chugach Eskimo burial cave. Chugach National Forest is not in possession or control of human remains from these burial sites.

Based on the above-mentioned information, officials of Chugach National Forest have determined that, pursuant to 43 CFR 10.2 (d)(2)(ii), these 16 cultural items are reasonably believed to have been placed with or near individual human remains at the time of death or later as part of the death rite or ceremony and are believed, by a preponderance of the evidence, to have been removed from specific burial sites of Native American individuals. Officials of Chugach National Forest also have determined that, pursuant to 43 CFR 10.2 (e), there is a relationship of shared group identity that can reasonably be traced between these unassociated funerary objects and the Native Village of Chenega and Native Village of Tatitlek, which are represented by Chugach Alaska Corporation.

This notice has been sent to officials of the Chugach Alaska Corporation, Chenega Corporation, Native Village of Chenega, Tatitlek Corporation, Native Village of Tatitlek, English Bay Corporation, Native Villages of Nanwalek, Port Graham Corporation, Native Village of Port Graham, Eyak Corporation, and Native Village of Eyak. Representatives of any other Indian tribe that believes itself to be culturally affiliated with these unassociated funerary objects should contact Linda Finn Yarborough, Forest Archaeologist, Chugach National Forest, 3301 C Street, Suite 300, Anchorage, AK 99503, telephone (907) 271-2511, facsimile (907) 271-2725, before January 7, 2002. Repatriation of these unassociated funerary objects to the Chugach Alaska Corporation may begin after that date if no additional claimants come forward.

Dated: November 5, 2001.
John Robbins,
Assistant Director, Cultural Resources Stewardship and Partnerships.

[FR Doc. 01-30349 Filed 12-6-01; 8:45 am]

BILLING CODE 4310-70-S